DEPARTMENT OF THE INTERIOR

Bureau of Land Management

[LLID100000-L10200000-PH0000]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC) and RAC Sub-Committee, will meet as indicated below.

DATES: The RAC has formed a Sub-Committee to come up with ideas and suggestions on management of the Broken Wing Ranch, which will be one alternative in the proposed Thompson Creek Mine expansion and land exchange. Their first meeting will be in Challis, Idaho on June 2-3, 2009. The meeting will be held at the Challis Field Office, 1151 Blue Mountain Road, Challis, Idaho with a field trip to the Broken Wing Ranch. The meeting will start at 10 a.m. on June 2 and end around 3 p.m. on June 3.

The RAC will next meet in Challis, Idaho on June 23-24, 2009 for a two day meeting. The first day will start at 10 a.m. at the Challis Field Office, 1151 Blue Mountain Road, Challis, Idaho with a short meeting followed by a tour of the Thompson Creek Mine and Broken Wing Ranch. The second day will be at the same location starting at 8:30 a.m. with a tour of L&W Stone. Other topics will be scheduled as appropriate.

The RAC will also have a meeting on September 22-23, 2009 in Pocatello, Idaho. The first day will start at 10 a.m. at the Pocatello Field Office, 4350 Cliffs Drive, Pocatello, Idaho with a short meeting followed by tours for the remainder of the day and on September 23 to the Soda Hills area, phosphate mine sites and Blackfoot River area. Topics of discussion include recreation, fisheries, mining and fuels. Other topics will be scheduled as appropriate. All meetings are open to the public.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Joanna Wilson, RAC Coordinator, Idaho Falls District, 1405 Hollipark Dr., Idaho Falls, ID 83401. Telephone: (208) 524-7550. E-mail: Joanna_Wilson@blm.gov.

Dated: March 4, 2009.
Joanna Wilson,
RAC Coordinator, Public Affairs Specialist.

[FR Doc. E9-5577 Filed 3-13-09; 8:45 am]

BILLING CODE 4310-GG-P